GENERAL SERVICES ADMINISTRATION

[OMB Control No. 3090-0007]

Submission for OMB Review; Comment Request Entitled Contractor's Qualifications and Financial Information

AGENCY: Office of the Chief Financial Officer (B), GSA.

ACTION: Notice of request for public comments regarding extension of a currently approved OMB clearance (3090-0007).

SUMMARY: Under the provisions of the Paperwork Reduction Act of 1995 (44 U.S.C. Chapter 35), the Office of Acquisition Policy has submitted to the Office of Management and Budget (OMB) a request to review and approve an extension of a previously approved information collection requirement concerning Contractor's Qualifications and Financial Information. A request for public comments was published at 66 FR 41029, August 6, 2001. No comments were received.

DATES: Comments may be submitted on or before November 19, 2001.

ADDRESSES: Comments regarding this burden estimate or any other aspect of this collection of information, including suggestions for reducing this burden, should be submitted to: Edward Springer, GSA Desk Officer, OMB, Room 10236, NEOB, Washington, DC 20503, and a copy to Stephanie Morris, General Services Administration (MVP), 1800 F Street NW., Room 4035 Washington, DC 20405.

FOR FURTHER INFORMATION CONTACT: Michael J. Kosar, Office of the Chief Financial Officer, GSA (202) 501-2029.

SUPPLEMENTARY INFORMATION:

A. Purpose

The General Service Administration is requesting the Office of Management and Budget (OMB) to extend information collection, 3090-0007, concerning Contractor's Qualifications and Financial Information. This form is used to determine the financial capability of prospective contractors as to whether they meet the financial responsibility standards in accordance with the Federal Acquisition Regulation (FAR) and the General Services Administration Acquisition Regulation (GSAR).

B. Annual Reporting Burden

Respondents: 2,306.

Annual responses: 2,767.

Average hours per response: 2.5.

Burden hours: 6,917.

Copy of Proposal

A copy of this proposal may be obtained from the General Service Administration, Acquisition Policy Division (MVP), Room 4035, 1800 F Street NW, Washington, DC 20405, or by telephoning (202) 501-4744, or by faxing your request to (202) 501-4067. Please cite OMB Control No. 3090-0007, Contractor's Qualifications and Financial Information, in all correspondence.

Dated: October 11, 2001.
Al Matera,
Director, Acquisition Policy Division.

[FR Doc. 01-26293 Filed 10-17-01; 8:45 am]

BILLING CODE 6820-61-M